GENERAL SERVICES ADMINISTRATION

41 CFR Part 102-36

[FMR Case 2009-102-2; Docket 2009-0002, Sequence 2]

RIN 3090-AI87

Federal Management Regulation; FMR Case 2009-102-2; Disposition of Excess Personal Property

AGENCY: Office of Governmentwide Policy, General Services Administration (GSA).

ACTION: Proposed rule.

SUMMARY: The General Services Administration is proposing to amend the Federal Management Regulation (FMR) by making a change to its personal property policy. The proposed change will update and clarify language that has caused some confusion with our customers and resulted in unnecessarily prolonged periods to remove property.

FOR FURTHER INFORMATION CONTACT: For clarification of content, contact Mr. Robert Holcombe, Office of Governmentwide Policy, Office of Travel, Transportation, and Asset Management (MT), (202) 501-3828 or e-mail at robert.holcombe@gsa.gov. For information pertaining to status or publication schedules contact the Regulatory Secretariat, 1800 F Street, NW., Room 4041, Washington, DC, 20405, (202) 501-4755. Please cite FMR case 2009-102-2.

DATES: Interested parties should submit comments in writing on or before June 1, 2009 to be considered in the formulation of a final rule.

ADDRESSES: Submit comments identified by FMR case 2009-102-2 by any of the following methods:

• Regulations.gov: http://www.regulations.gov.

Submit comments via the Federal eRulemaking portal by inputting “FMR Case 2009-102-2” under the heading “Comment or Submission”. Select the link “Send a Comment or Submission” that corresponds with FMR Case 2009-102-2. Follow the instructions provided to complete the “Public Comment and Submission Form”. Please include your name, company name (if any), and “FMR Case 2009-102-2” on your attached document.

• Fax: 202-501-4067.

• Mail: General Services Administration, FAR Secretariat (VPR), 1800 F Street, NW., Room 4041, ATTN: Hada Flowers, Washington, DC 20405.

Instructions: Please submit comments only and cite FMR Case 2009-102-2 in all correspondence related to this case. All comments received will be posted without change to http://www.regulations.gov, including any personal and/or business confidential information provided.

SUPPLEMENTARY INFORMATION:

A. Background

The purpose of the proposed rule is to update and clarify FMR 102-36.135. The current language has caused confusion with our customers and resulted in unnecessarily prolonged removal periods. This revision makes it clear that the acquiring agency is responsible for scheduling and coordinating the property removal once the acquiring agency receives notification from GSA that they have been allocated the property.

B. Executive Order 12866

This proposed rule is excepted from the definition of “regulation” or “rule” under Section 3(d)(3) of Executive Order 12866, Regulatory Planning and Review, dated September 30, 1993 and, therefore, was not subject to review under Section 6(b) of that Executive Order.

C. Regulatory Flexibility Act

This proposed rule is not required to be published in the Federal Register for notice and comment as per the exemption specified in 5 U.S.C. 553 (a)(2); therefore, the Regulatory Flexibility Act, 5 U.S.C. 601, et seq., does not apply.

D. Paperwork Reduction Act

The Paperwork Reduction Act does not apply because the proposed changes to the FMR do not impose information collection requirements that require the approval of the Office of Management and Budget under 44 U.S.C. 3501, et seq.

E. Small Business Regulatory Enforcement Fairness Act

This proposed rule is exempt from Congressional review under 5 U.S.C. 801 since it relates solely to agency management and personnel.

List of Subjects in 41 CFR Part 102-36

Government property, Property disposal.

Dated: February 23, 2009.
Stan Kaczmarczyk,
Acting Associate Administrator, Office of Governmentwide Policy.

For the reasons set forth in the preamble, GSA proposes to amend 41 CFR part 102-36 as set forth below:

PART 102-36—DISPOSITION OF EXCESS PERSONAL PROPERTY

1. The authority citation for 41 CFR part 102-36 continues to read as follows:

Authority: 40 U.S.C. 121(c).

2. Revise § 102-36.135 to read as follows:

§ 102-36.135 How much time do we have to pick up excess personal property that has been approved for transfer?

Normally, you have 15 calendar days from the date of GSA allocation to pick up the excess personal property for transfer and you are responsible for scheduling and coordinating the property removal with the holding agency. If additional removal time is required, you are responsible for requesting such additional removal time.

[FR Doc. E9-7152 Filed 3-30-09; 8:45 am]

BILLING CODE 6820-14-P